DEPARTMENT OF COMMERCE

International Trade Administration

(A-351-838)

Certain Frozen Warmwater Shrimp from Brazil; Partial Rescission of Antidumping Duty Administrative Review

AGENCY: Import Administration, International Trade Administration, Department of Commerce.

EFFECTIVE DATE: August 24, 2007.

FOR FURTHER INFORMATION CONTACT: Rebecca Trainor or Katherine Johnson, AD/CVD Operations, Office 2, Import Administration, International Trade Administration, U.S. Department of Commerce, 14th Street and Constitution Avenue, NW, Washington, DC 20230; telephone: (202) 482-4007 or (202) 482-4929, respectively.

SUPPLEMENTARY INFORMATION:

Background

On February 2, 2007, the Department of Commerce (the Department) published in the Federal Register a notice of opportunity to request an administrative review of the antidumping duty order on certain frozen warmwater shrimp from Brazil for the period February 1, 2006, through January 31, 2007. See Antidumping or Countervailing Duty Order, Finding, or Suspended Investigation; Opportunity to Request Administrative Review, 72 FR 5007 (February 2, 2007). On February 28, 2007, the petitioner¹ and the Louisiana Shrimp Association (LSA), a domestic interested party, requested an administrative review for numerous Brazilian exporters of subject merchandise in accordance with 19 CFR 351.213(b)(2)(1).

¹ The petitioner in this proceeding is the Ad Hoc Shrimp Trade Action Committee.

On March 16, 2007, in accordance with 19 CFR 351.213(d)(1), the petitioner withdrew its request for administrative review for SM Pescados Industria Comercio E Exportacao Ltda. and Valenca da Bahia Maricultura SA.

On April 6, 2007, the Department initiated an administrative review for 40 companies and requested that each provide data on the quantity and value (Q&V) of its exports of subject merchandise to the United States during the period of review (POR). These companies are listed in the Department's notice of initiation. See Notice of Initiation of Administrative Reviews of the Antidumping Duty Orders on Certain Frozen Warmwater Shrimp from Brazil, Ecuador, India and Thailand, 72 FR 17100 (April 6, 2007). The Department was unable to locate three of these producers/exporters due to incorrect and/or incomplete addresses.

Between April and July 2007 the Department received Q&V questionnaire responses from certain producers/exporters that indicated that they had no shipments of subject merchandise to the United States during the POR.

On July 5, 2006, in accordance with 19 CFR 351.213(d)(1), the petitioner withdrew its request for review for Empaf - Empresa de Armazenagem Firgorifica Ltda. and Maricultura Netuno SA.² Also on July 5, 2007, the LSA withdrew its requests for review for Netuno Alimentos SA (formerly known as Empaf - Empresa de Armazenagem Frigorifica Ltda.), SM Pescados Industria Comercio e Exportacao Ltda., and Valenca da Bahia Maricultura SA.

² In the original investigation, the Department found that Empresa de Armazenagem Frigorifica Ltda. and Maricultura Netuno S.A. comprised a single entity. (The company name “Empaf - Empresa de Armazenagem Frigorifica Ltda” is a variation of the name Empresa de Armazenagem Frigorifica Ltda.) See Notice of Preliminary Determination of Sales at Less Than Fair Value and Postponement of Final Determination: Certain Frozen and Canned Warmwater Shrimp from Brazil, 69 FR 47081, 47084 (August 4, 2004) (unchanged in final determination).

Partial Rescission of Review

On March 16, 2007, and July 5, 2007, the requests for administrative review were withdrawn for three companies, in accordance with 19 CFR 351.213(d)(1). These companies are: 1) Netuno Alimentos SA (formerly known as Empaf - Empresa de Armazenagem Frigorifica Ltda.); 2) SM Pescados Industria Comercio e Exportacao Ltda.; and 3) Valenca da Bahia Maricultura SA. Section 351.213(d)(1) of the Department's regulations requires that the Secretary rescind an administrative review if a party requesting a review withdraws the request within 90 days of the date of publication of the notice of initiation. Therefore, because all requests for administrative reviews were timely withdrawn for the companies listed above, in accordance with 19 CFR 351.213(d)(1), we are rescinding this review with regard to these companies.

In addition, in accordance with 19 CFR 351.213(d)(3), we are rescinding the review with respect to the following 16 companies because these companies submitted Q&V responses stating that they had no shipments of subject merchandise during the POR: 1) Artico S.A.; 2) Bramex Brasil Mercantil Ltda.; 3) Camanor Produtos Marinhos Ltda.; 4) Compex - Industria E Comercio de Pesca E Exportacao Ltda.; 5) Leardini Pescados Ltda.; 6) Lusomar Maricultura Ltda.; 7) MM Monteiro Pesca E Exportacao Ltda.; 8) Maricultura Rio Grandense Ltda.; 9) Maricultura Tropical Ltda.; 10) Mucuripe Pesca Ltda.; 11) Natal Pesca; 12) Norte Pesca S/A; 13) Potiguar Alimentos do Mar Ltda.; 14) Potipora Aquacultura Ltda.; 15) Sohagro Marina do Nordeste S.A.; and 16) Torquato Pontes Pescados S.A. We reviewed U.S. Customs and Border Protection data and confirmed that there were no entries of subject merchandise from any of these companies. See the Memorandum to The File from Kate Johnson entitled, “Department Intent to Rescind Reviews in Part,” dated July 19, 2007 (Intent to Rescind Memo). No party commented on our Intent to Rescind Memo. Consequently, in accordance with 19 CFR 351.213(d)(3) and consistent with our practice, we are rescinding our review with respect to the companies listed above. See e.g., Certain Steel Concrete Reinforcing Bars from Turkey; Final Results and Rescission of Antidumping Duty Administrative Review in Part, 71 FR 65082, 65083 (November 7, 2006) (Rebar from Turkey).

Further, the Department was unable to locate accurate addresses for the following companies, and thus was unable to serve them with any information requests in this case: 1) Cina Cia Nordeste de Aquicultura Alimentacao; 2) Guy Vautrin Importacao & Exportacao; and, 3) Marine Maricultura do Nordeste SA. See the Intent to Rescind Memo. Therefore, in accordance with our practice, we are also rescinding our review with respect to these companies. See Rebar from Turkey, 71 FR at 65083.

This notice is published in accordance with section 751 of the Tariff Act of 1930, as amended, and 19 CFR 351.213(d)(4).

Dated: August 17, 2007.
Gary Taverman,
Acting Deputy Assistant Secretary for Import Administration.

[FR Doc. E7-16807 Filed 8-23-07; 8:45 am]

BILLING CODE 3510-DS-S